DEPARTMENT OF DEFENSE

Office of the Secretary

U.S. Court of Appeals for the Armed Forces Proposed Rule Changes; Change in Date

AGENCY: Department of Defense.

ACTION: Notice.

SUMMARY: The Department of Defense published an announcement U.S. Court of Appeals for the Armed Forces Proposed Rule Changes on June 15, 2004 (69 FR 33363). This notice adds a public comment period to read as follows:

DATES: Comments on the proposed changes must be received by July 15, 2004.

All other information remains unchanged.

Dated: June 24, 2004.
L.M. Bynum,
Alternate OSD Federal Register Liaison Officer, Department of Defense.

[FR Doc. 04-14797 Filed 6-29-04; 8:45 am]

BILLING CODE 5001-06-M